DEPARTMENT OF VETERANS AFFAIRS

[OMB Control No. 2900-0764]

Agency Information Collection (Dental Patient Satisfaction Survey); Activities under OMB Review

AGENCY: Veterans Health Administration, Department of Veterans Affairs.

ACTION: Notice.

SUMMARY: In compliance with the Paperwork Reduction Act (PRA) of 1995 (44 U.S.C. 3501-3521), this notice announces that the Veterans Health Administration, Department of Veterans Affairs, will submit the collection of information abstracted below to the Office of Management and Budget (OMB) for review and comment. The PRA submission describes the nature of the information collection and its expected cost and burden and includes the actual data collection instrument.

DATES: Comments must be submitted on or before January 27, 2014.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0764 (Dental Patient Satisfaction Survey)” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0764 (Dental Patient Satisfaction Survey)” in any correspondence).”

SUPPLEMENTARY INFORMATION: Title: Survey of Healthcare Experiences, Dental Patient Satisfaction Survey, VA Form 10-10070.

Type of Review: Revision of a currently approved collection.

Abstract: VA Form 10-10070 will be used to systematically obtain information from patients that can be used to identify problems or complaints that need attention and to improve the quality of dental health care services delivered to Veterans. The goal of the Veterans Health Administration (VHA) is to provide high quality medical and dental care to eligible veterans.

An agency may not conduct or sponsor, and a person is not required to respond to a collection of information unless it displays a currently valid OMB control number. The Federal Register Notice with a 60-day comment period soliciting comments on this collection of information was published on (Tuesday, August 28, 2013), Vol. 78, No. 167, on page 53195.

Affected Public: Individuals or households.

Estimated Annual Burden: 36,585 burden hours.

Estimated Average Burden per Respondent: 15 minutes.

Frequency of Response: On occasion.

Estimated Number of Respondents: 9,146.

Dated: December 23, 2013.
By direction of the Secretary.
Crystal Rennie,
VA Clearance Officer, U.S. Department of Veterans Affairs.

[FR Doc. 2013-31057 Filed 12-26-13; 8:45 am]

BILLING CODE 8320-01-P